DEPARTMENT OF THE INTERIOR

Bureau of Land Management

[LLMTC02200-L14400000-FR0000-20 MO# 4500144853; MTM-110962]

Notice of Realty Action: Recreation and Public Purposes Act Classification and Segregation for Intake Campground, Dawson County, MT

AGENCY: Bureau of Land Management, Interior.

ACTION: Notice of realty action.

SUMMARY: The Bureau of Land Management (BLM) has examined certain public lands in Dawson County, Montana, and has found them suitable for classification for conveyance to Montana Department of Fish, Wildlife and Parks (MT FWP) under the provisions of the Recreation and Public Purposes (R&PP) Act, as amended, and Section 7 of the Taylor Grazing Act dated June 8, 1934. The lands consist of 6.41 acres. MT FWP proposes to continue to manage the land for public use and access as the Intake Campground and Fishing Access Site.

DATES: Submit written comments regarding this classification on or before October 26, 2020. Comments may be mailed, or hand delivered to the BLM office address below. Comments may be submitted electronically at the link below. The BLM will not consider comments received by telephone or email.

ADDRESSES: Mail written comments to Bureau of Land Management, Miles City Field Office, Jacalynn Parks, 111 Garryowen Road, Miles City, MT 59301. Submit comments electronically via website https://go.usa.gov/xd6VB. Copies of the Environmental Assessment are available at the BLM Miles City Field Office (MCFO) at this same address and website.

FOR FURTHER INFORMATION CONTACT: Jacalynn Parks, Realty Specialist, telephone: 406-233-2800, email: jcparks@blm.gov. Persons who use a telecommunications device for the deaf may call the Federal Relay Service (FRS) at 1-800-877-8339 to leave a message or question for Ms. Parks. The FRS is available 24 hours a day, 7 days a week. You will receive a reply during normal business hours.

SUPPLEMENTARY INFORMATION: MT FWP has not applied for more than the 6,400-acre limitation for recreation uses in a year, nor for more than 640 acres for each of the programs involving public resources other than recreation. MT FWP has submitted a statement in compliance with the applicable regulations. In 2001, the BLM conducted a dependent resurvey to determine accretion and avulsion of land along the Yellowstone River, and identified the lands under consideration to be in inadvertent trespass by the MT FWP's Intake Campground located along the Yellowstone River. In August 2018, MT FWP applied to the BLM MCFO for an R&PP patent for the 6.41 acres. An official survey was executed in 2018 to create lot boundaries and legal land descriptions for the proposed R&PP patent. Intake is a very popular public fishing and recreation site for the State and provides public use amenities, including a boat ramp for river access. The lands under consideration are not needed for any other Federal purposes and would be best served to continue to be available for public access and fishing facilities as managed by MT FWP. Conveyance of the surface estate would allow MT FWP to continue the operation and maintenance of the existing campground and facilities for the public. The lands examined and identified as suitable for conveyance under the R&PP Act are legally described as:

Principal Meridian, Montana

T. 18 N., R. 56 E.,

Sec. 25, lot 6;

Sec. 36, lot 9.

The area described contains 6.41 acres.

The BLM examined these lands through an environmental analysis and found the land suitable for classification and conveyance to MT FWP and signed a Finding of No Significant Impact. Conveyance of the lands for recreational or public purposes use is in conformance with the 2015 BLM MCFO Resource Management Plan, as amended, and in the public interest.

All interested parties will receive a copy of this Notice once it is published in the Federal Register. A copy of the Federal Register Notice will be published in the newspaper of local circulation once a week for 3 consecutive weeks. The regulations at 43 CFR 2741 addressing requirements and procedures for conveyances under the R&PP Act do not require a public meeting.

Upon publication of this Notice in the Federal Register, the lands will be segregated from all other forms of appropriation under the public land laws, including locations under the mining laws, except for lease or conveyance under the R&PP Act and leasing under the mineral leasing laws. The segregative effect shall terminate upon issuance of a patent, upon final rejection of the application, or 18 months from the date of this notice, whichever occurs first.

The conveyance of the land will be subject to the following terms, conditions, and reservations:

1. A right-of-way thereon for ditches and canals constructed by the authority of the United States pursuant to the Act of August 30, 1890 (43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Conveyance of the parcel is subject to valid existing rights.

5. An appropriate indemnification clause protecting the United States from claims arising out of the patentee's use, occupancy, or occupation on the leased/patented lands.

6. Any other reservations that the authorized officer determines appropriate to ensure public access and proper management of Federal lands and interests therein.

7. A limited reversionary provision stating that title shall revert to the United States upon a finding, after notice and opportunity for a hearing, that, without the approval of the Secretary of the Interior or his delegate, the patentee or its approved successor attempts to transfer title to or control over the lands to another, the lands have been devoted to a use other than that for which the lands were conveyed, the lands have not been used for the purpose for which the lands were conveyed for a 5-year period, or the patentee has failed to follow the approved development plan or management plan. No portion of the land shall, under any circumstance, revert to the United States if any such portion has been used for solid waste disposal or for any other purpose which may result in the disposal, placement, or release of any hazardous substance.

Classification Comments: Interested persons may submit comments involving the suitability of the land for use as a campground, while maintaining, preserving, and improving the campground. Comments on the classification are restricted to whether the land is physically suited for the proposal, whether the use will maximize the future use or uses of the land, whether the use is consistent with local planning and zoning, or if the use is consistent with State and Federal programs.

Application Comments: Interested persons may submit comments regarding the specific use proposed in the application and plan of development and management, whether the BLM followed proper administrative procedures in reaching the decision, or any other factor not directly relating to the suitability of the lands for the use as a campground, while maintaining, preserving, and improving the campground.

Any adverse comments will be reviewed by the BLM Montana/Dakotas State Director or other authorized official of the Department of the Interior, who may sustain, vacate, or modify this realty action. In the absence of any adverse comments, the classification will become effective on November 9, 2020. The lands will not be offered for conveyance until after the classification becomes effective.

Before including your address, phone number, email address, or other personal identifying information in any comment, be aware that your entire comment, including your personal identifying information, may be made publicly available at any time. While you can ask us in your comment to withhold your personal identifying information from public review, we cannot guarantee that we will be able to do so.

Authority: 43 CFR 2741.5.

Eric D. Lepisto,
Field Manager, Miles City Field Office.

[FR Doc. 2020-20007 Filed 9-9-20; 8:45 am]

BILLING CODE 4310-DN-P